DEPARTMENT OF HEALTH AND HUMAN SERVICES

Centers for Medicare & Medicaid Services

[CMS-9073-N]

Medicare and Medicaid Programs; Quarterly Listing of Program Issuances—January Through March 2012

AGENCY: Centers for Medicare & Medicaid Services (CMS), HHS.

ACTION: Notice.

SUMMARY: This quarterly notice lists CMS manual instructions, substantive and interpretive regulations, and other Federal Register notices that were published from January through March 2012, relating to the Medicare and Medicaid programs and other programs administered by CMS.

FOR FURTHER INFORMATION CONTACT: It is possible that an interested party may need specific information and not be able to determine from the listed information whether the issuance or regulation would fulfill that need. Consequently, we are providing contact persons to answer general questions concerning each of the addenda published in this notice.

Addenda | Contact | Phone No.
I CMS Manual Instructions | Ismael Torres | (410) 786-1864
II Regulation Documents Published in the Federal Register | Terri Plumb | (410) 786-4481
III CMS Rulings | Tiffany Lafferty | (410) 786-7548
IV Medicare National Coverage Determinations | Wanda Belle | (410) 786-7491
V FDA-Approved Category B IDEs | John Manlove | (410) 786-6877
VI Collections of Information | Mitch Bryman | (410) 786-5258
VII Medicare-Approved Carotid Stent Facilities | Sarah J. McClain | (410) 786-2294
VIII American College of Cardiology-National Cardiovascular Data Registry Sites | JoAnna Baldwin, MS | (410) 786-7205
IX Medicare's Active Coverage-Related Guidance Documents | Lori Ashby | (410) 786-6322
X One-time Notices Regarding National Coverage Provisions | Lori Ashby | (410) 786-6322
XI National Oncologic Positron Emission Tomography Registry Sites | Stuart Caplan, RN, MAS | (410) 786-8564
XII Medicare-Approved Ventricular Assist Device (Destination Therapy) Facilities | JoAnna Baldwin, MS | (410) 786-7205
XIII Medicare-Approved Lung Volume Reduction Surgery Facilities | JoAnna Baldwin, MS | (410) 786-7205
XIV Medicare-Approved Bariatric Surgery Facilities | Kate Tillman, RN, MAS | (410) 786-9252
XV Fluorodeoxyglucose Positron Emission Tomography for Dementia Trials | Stuart Caplan, RN, MAS | (410) 786-8564
All Other Information | Annette Brewer | (410) 786-6580

I. Background

Among other things, the Centers for Medicare & Medicaid Services (CMS) is responsible for administering the Medicare and Medicaid programs and coordination and oversight of private health insurance. Administration and oversight of these programs involves the following: (1) Furnishing information to Medicare and Medicaid beneficiaries, health care providers, and the public; and (2) maintaining effective communications with CMS regional offices, State governments, State Medicaid agencies, State survey agencies, various providers of health care, all Medicare contractors that process claims and pay bills, National Association of Insurance Commissioners (NAIC), health insurers, and other stakeholders. To implement the various statutes on which the programs are based, we issue regulations under the authority granted to the Secretary of the Department of Health and Human Services under sections 1102, 1871, 1902, and related provisions of the Social Security Act (the Act) and Public Health Service Act. We also issue various manuals, memoranda, and statements necessary to administer and oversee the programs efficiently.

Section 1871(c) of the Act requires that we publish a list of all Medicare manual instructions, interpretive rules, statements of policy, and guidelines of general applicability not issued as regulations at least every 3 months in the Federal Register.

II. Revised Format for the Quarterly Issuance Notices

While we are publishing the quarterly notice required by section 1871(c) of the Act, we will no longer republish duplicative information that is available to the public elsewhere. We believe this approach is in alignment with CMS' commitment to the general principles of the President's Executive Order 13563 released January 2011entitled “Improving Regulation and Regulatory Review,” which promotes modifying and streamlining an agency's regulatory program to be more effective in achieving regulatory objectives. Section 6 of Executive Order 13563 requires agencies to identify regulations that may be “outmoded, ineffective, insufficient, or excessively burdensome, and to modify, streamline, expand or repeal them in accordance with what has been learned.” This approach is also in alignment with the President's Open Government and Transparency Initiative that establishes a system of transparency, public participation, and collaboration.

Therefore, this quarterly notice provides only the specific updates that have occurred in the 3-month period along with a hyperlink to the full listing that is available on the CMS Web site or the appropriate data registries that are used as our resources. This information is the most current up-to-date information and will be available earlier than we publish our quarterly notice. We believe the Web site list provides more timely access for beneficiaries, providers, and suppliers. We also believe the Web site offers a more convenient tool for the public to find the full list of qualified providers for these specific services and offers more flexibility and “real time” accessibility. In addition, many of the Web sites have listservs; that is, the public can subscribe and receive immediate notification of any updates to the Web site. These listservs avoid the need to check the Web site, as notification of updates is automatic and sent to the subscriber as they occur. If assessing a Web site proves to be difficult, the contact person listed can provide information.

III. How To Use the Notice

This notice is organized into 15 addenda so that a reader may access the subjects published during the quarter covered by the notice to determine whether any are of particular interest. We expect this notice to be used in concert with previously published notices. Those unfamiliar with a description of our Medicare manuals should view the manuals at http://www.cms.gov/manuals.

Authority: (Catalog of Federal Domestic Assistance Program No. 93.773, Medicare—Hospital Insurance, Program No. 93.774, Medicare—Supplementary Medical Insurance Program, and Program No. 93.714, Medical Assistance Program)

Dated: May 11, 2012.
Kathleen Cantwell,
Acting Director, Office of Strategic Operations and Regulatory Affairs.

BILLING CODE 4120-01-P

[FR Doc. 2012-11995 Filed 5-17-12; 8:45 am]

BILLING CODE 4120-01-C